DEPARTMENT OF EDUCATION

National Assessment Governing Board; Meeting

AGENCY: National Assessment Governing Board, Department of Education.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than May 4, 2007. We will attempt to meet requests after this date, but cannot guarantee availability of the requested accommodation. The meeting site is accessible to individuals with disabilities.

DATES: May 17-19, 2007.

Times:

May 17

Committee Meetings

Assessment Development Committee: Open Session—12 p.m. to 3 p.m.;

Reporting and Dissemination Committee: Closed Session—3 p.m. to 3:30 p.m.; Open Session—3:30 p.m. to 4 p.m.;

Executive Committee: Open Session—4:30 p.m. to 6 p.m.

May 18

Full Board: Open Session—8:30 a.m. to 9:45 a.m..; Closed Session—12:15 p.m. to 1:45 p.m.; Open Session—1:45 p.m.—3 p.m.; Closed Session—3 p.m. to 4 p.m.

Committee Meetings

Assessment Development Committee: Open Session—9:45 a.m. to 12:15 p.m.;

Committee on Standards, Design and Methodology: Open Session—9:45 a.m. to 11:15 a.m.; Closed Session—11:15 a.m. to 12:15 p.m.;

Reporting and Dissemination Committee: Open Session—9:45 a.m. to 12:15 p.m.;

May 19

Nominations Committee: Closed Session—8:15 a.m. to 8:45 a.m.

Full Board: Open Session—9 a.m. to 12 p.m.

Location: The Langham Hotel, 250 Franklin Street, Boston, MA 02110.

FOR FURTHER INFORMATION CONTACT: Munira Mwalimu, Operations Officer, National Assessment Governing Board, 800 North Capitol Street, NW., Suite 825, Washington, DC, 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment objectives, developing appropriate student achievement levels for each grade and subject tested, developing guidelines for reporting and disseminating results, and developing standards and procedures for interstate and national comparisons.

On May 17, the Assessment Development Committee will meet in open session from 12 p.m. to 3 p.m. The Reporting and Dissemination Committee will meet in closed session on May 17 from 3 p.m. to 3:30 p.m. to receive a briefing on secure data on participation, exclusion, and accommodation rates for grades 4, 8, and 12 for the 2007 NAEP assessments. The NAEP reports will be not be released until the fall of 2007. The meeting must be conducted in closed session as disclosure of proposed test items for the reading assessment would significantly impede implementation of the NAEP program, and is therefore protected by exemption 9(B) of section 552b(c) of Title 5 U.S.C. The Reporting and Dissemination Committee will meet in open session on May 17 from 3 p.m. to 4:30 p.m. The Executive Committee will meet in open session on May 17 from 4:30 p.m. to 6 p.m.

On May 18, the full Board will meet in open session from 8:30 a.m. to 12:15 p.m. From 8:30 a.m. to 9 a.m. the Board will approve the agenda, followed by welcome remarks. The Board will then receive the Executive Director's report and hear an update on the work of the National Center for Education Statistics (NCES).

From 9:45 a.m. to 12:15 p.m. on May 18, the Assessment Development Committee and the Reporting and Dissemination Committee will meet in open session. The Committee on Standards, Design and Methodology will meet in open session on May 18 from 9:45 a.m. to 11:15 a.m. and will meet in closed session from 11:15 a.m. to 12:15 p.m. to discuss the 2006 NAEP Economics Achievement Levels for Grade 12. This briefing will involve discussion of achievement level findings which constitute a major basis for the national release of the NAEP Grade 12 Economics results, and cannot be released in an open meeting prior to the official release of the reports. The meeting must therefore be conducted in closed session as disclosure of data would significantly impede implementation of the NAEP release activities, and is therefore protected by exemption 9(B) of section 552b(c) of Title 5 U.S.C.

On May 18, the full Board will meet in closed session from 12:15 p.m. to 1:45 p.m. The Board will receive a briefing provided by the National Center for Education Statistics on the NAEP 2006 U.S. History and Civics Report Cards. The Governing Board will be provided with embargoed data that cannot be discussed in an open meeting prior to their official release. The meeting must therefore be conducted in closed session as disclosure of data would significantly impede implementation of The Nation's Report Card initial release activities, as protected by exemption 9(B) of section 552b(c) of Title 5 U.S.C.

On May 18 from 2 p.m. to 3 p.m. the Board will receive a presentation on the Massachusetts Comprehensive Assessment System. From 3 p.m. to 4 p.m., the Board will meet in closed session to discuss the 2006 NAEP Economics Achievement Levels for Grade 12. This briefing will involve discussion of achievement level findings which constitute a major basis for the national release of the NAEP Grade 12 Economics results, and cannot be released in an open meeting prior to the official release of the reports. The meeting must therefore be conducted in closed session as disclosure of data would significantly impede implementation of the NAEP release activities, and is therefore protected by exemption 9(B) of section 552b(c) of Title 5 U.S.C.

On May 19, the Nominations Committee will meet in closed session from 8:15 a.m. to 8:45 a.m. to review and discuss confidential information regarding nominees received for Board vacancies for terms beginning on October 1, 2007. These discussions pertain solely to internal personnel rules and practices of an agency and will disclose information of a personal nature where disclosure would constitute an unwarranted invasion of personal privacy. As such, the discussions are protected by exemptions 2 and 6 of section 552b(c) of Title 5 U.S.C.

The full Board will meet in open session on May 19 from 9 a.m. to 12 noon. From 9 a.m. to 10 a.m. the Board will receive a briefing on NAEP Accommodations. Board actions on policies and Committee reports are scheduled to take place between 10:15 a.m. and 12 p.m., upon which the May 19, 2007 session of the Board meeting will adjourn.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW, Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 27, 2007.
Charles E. Smith,
Executive Director, U.S. Department of Education, National Assessment Governing Board.

[FR Doc. E7-8357 Filed 5-1-07; 8:45 am]

BILLING CODE 4000-01-P